DEPARTMENT OF THE TREASURY

Submission for OMB Review; Comment Request

November 17, 2003.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before December 24, 2003 to be assured of consideration.

Bureau of the Public Debt (PD)

OMB Number: 1535-0009.

Form Number: PD F 1851.

Type of Review: Extension.

Title: Request for Reissue U.S. Savings Bonds to a Personal Trust.

Description: Used to request reissue of savings bonds in the name of a trustee of a personal trust estate.

Respondents: Individuals or households.

Estimated Number of Respondents: 55,000.

Estimated Burden Hours Per Respondent: 15 minutes.

Frequency of Response: On occasion.

Estimated Total Reporting Burden Hours: 13,750 hours.

OMB Number: 1535-0068.

Form Number: None.

Type of Review: Extension.

Title: Regulations Governing Book-Entry Treasury Bonds, Notes and Bills.

Description: The information is requested to establish an Investor's Treasury Account; to dispose of securities upon the owner's request; and, to determine entitlement to securities.

Respondents: Individuals or households, Business or other for-profit, Not-for-profit institutions, State, Local or Tribal Government.

Estimated Number of Respondents: 75,000.

Estimated Burden Hours Per Respondent: 7 minutes.

Frequency of Response: On occasion.

Estimated Total Reporting Burden Hours: 8,775 hours.

OMB Number: 1535-0087.

Form Number: None.

Type of Review: Extension.

Title: Payment by Banks and Other Financial Institutions of U.S. Savings Bonds.

Description: Qualified financial institutions are authorized to redeem eligible savings bonds and receive settlement through Federal Reserve Board check collection system.

Respondents: Business or other for-profit, Not-for-profit institutions.

Estimated Number of Respondents: 40,000.

Estimated Burden Hours Per Respondent: 4 seconds.

Frequency of Response: On occasion.

Estimated Total Reporting Burden Hours: 56,356 hours.

OMB Number: 1535-0089.

Form Number: None.

Type of Review: Extension.

Title: Implementing Regulations: Government Securities Act of 1986, as amended.

Description: The regulations require certain government securities brokers/dealers to make and keep certain records concerning government securities activities, to submit financial reports and make certain disclosures to investors-part of customer protection and financial responsibilities.

Respondents: Business or other for-profit.

Estimated Number of Respondents/Recordkeepers: 4.039.

Estimated Burden Hours Per Respondent/Recordkeeper: Varies.

Frequency of Response: On occasion, Monthly, Quarterly, Annually.

Estimated Total Reporting/Recordkeeping Burden Hours: 363,957 hours.

OMB Number: 1535-0104.

Form Number: PD F 2066.

Type of Review: Extension.

Title: Application by Survivors for Payment of Bond or Check Issues Under Armed Forces Leave Act of 1946.

Description: Used by survivors for payment of bonds issued under Armed Forces Leave Act of 1946.

Respondents: Individuals or households.

Estimated Number of Respondents: 400.

Estimated Burden Hours Per Respondent: 30 minutes.

Frequency of Response: On occasion.

Estimated Total Reporting Burden Hours: 200 hours.

OMB Number: 1535-0105.

Form Number: PD F 2481.

Type of Review: Extension.

Title: Application for Recognition as Natural Guardian of Minor Not under Legal Guardianship and Disposition of Securities.

Description: Used by natural guardian of minor to request disposition of securities.

Respondents: Individuals or households.

Estimated Number of Respondents: 25.

Estimated Burden Hours Per Respondent: 10 minutes.

Frequency of Response: On occasion.

Estimated Total Reporting Burden Hours: 5 hours.

Clearance Officer: Vicki S. Thorpe, Bureau of the Public Debt, 200 Third Street, Parkersburg, West VA 26106-1328, (304) 480-6553.

OMB Reviewer: Joseph F. Lackey, Jr., Office of Management and Budget, Room 10235, New Executive Office Building, Washington, DC 20503 (202) 395-7316.

Lois K. Holland,
Treasury PRA Clearance Officer.

[FR Doc. 03-29242 Filed 11-21-03; 8:45 am]

BILLING CODE 4810-39-P